DEPARTMENT OF ENERGY

Federal Energy Regulatory Commission

Combined Notice of Filings

Take notice that the Commission has received the following Natural Gas Pipeline Rate and Refund Report filings:

Filings Instituting Proceedings

Docket Numbers: RP13-998-000.

Applicants: Gulf South Pipeline Company, LP.

Description: Gulf South Pipeline Company, LP submits tariff filing per 154.204: Cap Rel Neg Rate Agmt (ONEOK 34951 to BG 41007) to be effective 7/1/2013.

Filed Date: 06/26/2013.

Accession Number: 20130626-5013.

Comment Date: 5:00 p.m. Eastern Time on Monday, July 08, 2013.

Docket Numbers: RP13-999-000.

Applicants: TWP Pipeline LLC.

Description: TWP Pipeline LLC submits tariff filing per 154.204: TWP Pipeline LLC Housekeeping Filing to be effective 7/26/2013.

Filed Date: 06/26/2013.

Accession Number: 20130626-5029.

Comment Date: 5:00 p.m. Eastern Time on Monday, July 08, 2013.

Docket Numbers: RP13-1000-000.

Applicants: Natural Gas Pipeline Company of America.

Description: Natural Gas Pipeline Company of America LLC submits tariff filing per 154.204: Green Valley Negotiated Rate to be effective 7/1/2013.

Filed Date: 06/26/2013.

Accession Number: 20130626-5049.

Comment Date: 5:00 p.m. Eastern Time on Monday, July 08, 2013.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 27, 2013.
Nathaniel J. Davis, Sr.,
Deputy Secretary.

[FR Doc. 2013-16342 Filed 7-8-13; 8:45 am]

BILLING CODE 6717-01-P